DEPARTMENT OF DEFENSE

Department of the Army

[Docket ID: USA-2009-0010]

Privacy Act of 1974; System of Records

AGENCY: Department of the Army, DoD.

ACTION: Notice to add a system of records.

SUMMARY: The Department of the Army is proposing to add a system of records to its existing inventory of records systems subject to the Privacy Act of 1974, (5 U.S.C. 552a), as amended.

DATES: The proposed action will be effective on May 18, 2009 unless comments are received that would result in a contrary determination.

ADDRESSES: Department of the Army, Freedom of Information/Privacy Division, U.S. Army Records Management and Declassification Agency, 7701 Telegraph Road, Casey Building, Suite 144, Alexandria, VA 22325-3905.

FOR FURTHER INFORMATION CONTACT: Mr. Leroy Jones at (703) 428-6185.

SUPPLEMENTARY INFORMATION: The Department of the Army systems of records notices subject to the Privacy Act of 1974, (5 U.S.C. 552a), as amended, have been published in the Federal Register and are available from the address above.

The proposed system report, as required by 5 U.S.C. 552a(r) of the Privacy Act of 1974, as amended, was submitted on April 13, 2009, to the House Committee on Oversight and Government Reform, the Senate Committee on Homeland Security and Governmental Affairs, and the Office of Management and Budget (OMB) pursuant to paragraph 4c of Appendix I to OMB Circular No. A-130, `Federal Agency Responsibilities for Maintaining Records About Individuals', dated February 8, 1996 (February 20, 1996, 61 FR 6427).

Dated: April 14, 2009.
Morgan E. Frazier,
Alternate OSD Federal Register Liaison Officer, Department of Defense.

A0025-2a SAIS DoD

SYSTEM NAME:

Defense Biometric Identification Records System.

SYSTEM LOCATION:

Department of Defense, Biometrics Task Force, 347 West Main Street, Clarksburg, WV 26306-2947 and at any Department of Defense activity that receives, compares, retains, accesses, or uses biometric technology to recognize the identity or to verify the claimed identity of an individual.

CATEGORIES OF INDIVIDUALS COVERED BY THE SYSTEM:

Individuals covered include members of the U.S. Armed Forces, DoD civilian and contractor personnel, military reserve personnel, Army and Air National Guard personnel, and other individuals (who are U.S. citizens or aliens lawfully admitted for permanent residence) requiring or requesting access to DoD or DoD controlled information systems and/or DoD or DoD contractor operated, controlled, or secured facilities. Also included are U.S. persons who have been declared missing, prisoners of war (POW), non-U.S. citizens, civilian persons who are being detained or held hostage, or personnel recovered from hostile control. Individuals within the purview of both the personnel recovery and personnel accounting missions respectively are covered. Personnel recovery supports U.S. military, DoD civilian, and DoD contractor personnel while hostilities are ongoing. Personnel accounting takes over once hostilities cease.

CATEGORIES OF RECORDS IN THE SYSTEM:

Individual's name, Social Security Number (SSN), organization, telephone number, and office symbol; security clearance; level of access; subject interest code; user identification code; data files retained by users; assigned password; magnetic tape reel identification; abstracts of computer programs and names and phone numbers of contributors; similar relevant information; biometrics templates, biometric images, supporting documents, and biographic information including name, date of birth, place of birth, height, weight, eye color, hair color, race and gender and similar relevant information; and reports of casualty, biographic data and debriefing reports concerning U.S. personnel who are missing, captured, or detained by a hostile entity.

AUTHORITY FOR MAINTENANCE OF THE SYSTEM:

10 U.S.C. 113, Secretary of Defense; 10 U.S.C. 3013, Secretary of the Army; 10 U.S.C. 5013, Secretary of the Navy; 10 U.S.C. 8013, Secretary of the Air Force; DoD Directive 8521.01E, Department of Defense Biometrics; DoD Directive 8500.1, Information Assurance (IA); DoD Instruction 8500.2, Information Assurance Implementation; Army Regulation 25-2, Information Assurance; DoD Directive 2310.7, Personnel Accounting-Loses Due to Hostile Acts; DoD Directive 5110.10, Defense Prisoner of War/Missing in Action Office; DoD Instruction 2310.5, Accounting for Missing Persons; and E.O.9397 (SSN).

PURPOSE(S):

To control logical and physical access to DoD and DoD controlled information systems and DoD or DoD contractor operated, controlled, or secured facilities and to support the DoD physical and logical security, force protection, identity management, and information assurance programs, by identifying an individual or verifying/authenticating the identity of an individual through the use of biometrics (i.e., measurable physiological or behavioral characteristics) for purposes of protecting U.S./Coalition/allied government and/or U.S./Coalition/allied national security areas of responsibility and information.

Information assurance purposes include the administration of passwords and identification numbers for operators/users of data in automated media; identifying data processing and communication customers authorized access to or disclosure from data residing in information processing and/or communication activities; and determining the propriety of individual access into the physical data residing in automated media.

To maintain records for the expedient field identification and recovery of persons, or their physical remains, who have been captured, detained, evading, isolated or missing, and for the continuing operational capability to determine the areas of movement and detention of these persons who were captured, detained, evaded, isolated or missing.

ROUTINE USES OF RECORDS MAINTAINED IN THE SYSTEM, INCLUDING CATEGORIES OF USERS AND THE PURPOSES OF SUCH USES:

In addition to those disclosures generally permitted under 5 U.S.C. 552a(b) of the Privacy Act of 1974, these records contained therein may specifically be disclosed outside the DoD as a routine use pursuant to 5 U.S.C. 552a(b)(3) as follows:

To Federal, State, tribal, local, or foreign agencies, for the purposes of law enforcement, counterterrorism, immigration management and control, and homeland security as authorized by U.S. Law or Executive Order, or for the purpose of protecting the territory, people, and interests of the United States of America against breaches of security related to DoD controlled information or facilities, and against terrorist activities.

The DoD `Blanket Routine Uses' set forth at the beginning of the Army's compilation of systems of records notices also apply to this system.

POLICIES AND PRACTICES FOR STORING, RETRIEVING, ACCESSING, RETAINING, AND DISPOSING OF RECORDS IN THE SYSTEM:

STORAGE:

Paper records in file folders and electronic storage media.

RETRIEVABILITY:

Name, Social Security Number (SSN), biometric template, fingerprints, face, iris, DNA, and other biometric data.

SAFEGUARDS:

Computerized records maintained in a controlled area are accessible only to authorized personnel. Records are maintained in a controlled facility. Physical entry is restricted by the use of locks, guards, and is accessible only to authorized personnel. Physical and electronic access is restricted to designated individuals having a need therefore in the performance of official duties and who are properly screened and cleared for need-to-know.

RETENTION AND DISPOSAL:

Data is deleted and destroyed when superseded or when no longer needed for operational purposes, whichever is later, by shredding, pulping, degaussing or erasing.

Records pertaining to captured, detained, evading, isolated or missing U.S. military, Department of Defense (DOD) civilians, DOD contractor personnel, and other U.S. persons, will be maintained in the files until no longer needed, or for 10 years either after recovery or after the subject is declared Killed/Missing in Action or dead. Records are destroyed by shredding, pulping, degaussing or erasing.

SYSTEM MANAGER(S) AND ADDRESS:

Director, Biometrics Task Force, 1901 S. Bell Street, Suite 900, Arlington, VA 22202-4512.

NOTIFICATION PROCEDURE:

Individuals seeking to determine whether information about themselves is contained in this system should address written inquiries to Biometric Task Force, 1901 S. Bell Street, Suite 900, Arlington, VA 22202-4512.

For verification purposes, individual should provide full name, sufficient details to permit locating pertinent records, and signature.

RECORD ACCESS PROCEDURES:

Individuals seeking access to information about themselves contained in this system should address written inquiries to Biometric Task Force, 1901 S. Bell Street, Suite 900, Arlington, VA 22202-4512.

For verification purposes, individual should provide full name, sufficient details to permit locating pertinent records, and signature.

CONTESTING RECORD PROCEDURES:

The Army's rules for accessing records, and for contesting contents and appealing initial agency determinations are contained in Army Regulation 340-21; 32 CFR part 505; or may be obtained from the system manager.

RECORD SOURCE CATEGORIES:

From the individual, DoD security offices, system managers, computer facility managers, automated interfaces for user codes on file at Department of Defense sites.

EXEMPTIONS CLAIMED FOR THE SYSTEM:

None.

[FR Doc. E9-8840 Filed 4-16-09; 8:45 am]

BILLING CODE 5001-06-P